INTERNATIONAL TRADE COMMISSION

[Investigations Nos. 731-TA-413-415 and 419 (Review)]

Certain Industrial Belts From Germany, Italy, Japan, and Singapore

Determinations

On the basis of the record ¹ developed in these subject five-year reviews, the United States International Trade Commission determines,² pursuant to section 751(c) of the Tariff Act of 1930 (19 U.S.C. 1675(c)) (the Act), that revocation of the antidumping duty orders on certain industrial belts from Germany, Italy, Japan, and Singapore would not be likely to lead to continuation or recurrence of material injury to an industry in the United States within a reasonably foreseeable time.

¹ The record is defined in § 207.2(f) of the Commission's rules of practice and procedure (19 CFR 207.2(f)).

² Commissioner Lynn M. Bragg dissenting with respect to Italy, Japan, and Singapore.

Background

The Commission instituted these reviews on June 1, 1999 (64 FR 29342) and determined on September 3, 1999, that it would conduct full reviews (64 FR 50106, September 15, 1999). Notice of the scheduling of the Commission's reviews and of a public hearing to be held in connection therewith was given by posting copies of the notice in the Office of the Secretary, U.S. International Trade Commission, Washington, DC, and by publishing the notice in the Federal Register on February 10, 2000 (65 FR 6627). Since all requests by interested parties to appear at the hearing were withdrawn before its scheduled date, no hearing was held in these reviews.

The Commission transmitted its determinations in these reviews to the Secretary of Commerce on August 18, 2000. The views of the Commission are contained in USITC Publication 3341 (August 2000), entitled Certain Industrial Belts from Germany, Italy, Japan, and Singapore: Investigations Nos. 731-TA-413-415 and 419 (Review).

Issued: August 24, 2000.
By order of the Commission.
Donna R. Koehnke,
Secretary.

[FR Doc. 00-22196 Filed 8-29-00; 8:45 am]

BILLING CODE 7026-02-P